ENVIRONMENTAL PROTECTION AGENCY

[FRL-9618-8]

Meetings of the Small Communities Advisory Subcommittee and the Local Government Advisory Committee

AGENCY: Environmental Protection Agency.

ACTION: Notice.

SUMMARY: The Small Communities Advisory Subcommittee (SCAS) will meet via teleconference on Monday, February 6, 2012, 1 p.m.-2 p.m. (ET). The Subcommittee will discuss sustainable communities, drinking water regulations and other issues and recommendations to the Administrator regarding environmental issues affecting small communities. This is an open meeting and all interested persons are invited to participate. The Subcommittee will hear comments from the public between 1:40 p.m.-2 p.m. on Monday, February 6, 2012. Individuals or organizations wishing to address the Committee will be allowed a maximum of five minutes to present their point of view. Also, written comments should be submitted electronically to davis.catherinem@epa.gov. Please contact the Designated Federal Officer (DFO) at the number listed below to schedule a time on the agenda. Time will be allotted on a first-come first-serve basis, and the total period for comments may be extended if the number of requests for appearances requires it.

The Local Government Advisory Committee (LGAC) will meet via teleconference on Monday, February 6, 2012, 2 p.m.-3 p.m. (ET). The Committee will discuss the recommendations of the LGAC Workgroups and the SCAS. This is an open meeting and all interested persons are invited to participate. The Committee will hear comments from the public between 2:40 p.m.-3 p.m. (ET) on Monday, February 6, 2012. Individuals or organizations wishing to address the Committee will be allowed a maximum of five minutes to present their point of view. Also, written comments should be submitted electronically to eargle.frances@epa.gov. Please contact the Designated Federal Officer (DFO) at the number listed below to schedule a time on the agenda. Time will be allotted on a first-come first-serve basis, and the total period for comments may be extended if the number of requests for appearances requires it.

Dates and Addresses: The Small Communities Advisory Subcommittee meeting will be held by teleconference on Monday, February 6, 2012, 1 p.m.-2 p.m. (ET). The Local Government Advisory Committee meeting will be held by teleconference on Monday, February 6, 2012, 2 p.m.-3 p.m. (ET). Meeting summaries will be available after the meetings online at http://www.epa.gov/ocir/scas and can be obtained by written request to the DFO.

FOR FURTHER INFORMATION CONTACT: Cathy Davis, Designated Federal Officer for the Small Communities Advisory Subcommittee (SCAS) at (202) 564-2703 or email at davis.catherinem@epa.gov. For the Local Government Advisory Committee (LGAC) contact Frances Eargle at (202) 564-3115 or email at eargle.frances@epa.gov.

Information on Services for Those with Disabilities: For information on access or services for individuals with disabilities, please contact Frances Eargle at (202) 564-3115 or eargle.frances@epa.gov. To request accommodation of a disability, please request it 10 days prior to the meeting, to give EPA as much time as possible to process your request.

Dated: January 9, 2011.
Frances Eargle,
Designated Federal Officer, Local Government Advisory Committee.

[FR Doc. 2012-813 Filed 1-17-12; 8:45 am]

BILLING CODE 6560-50-P